DEPARTMENT OF COMMERCE

International Trade Administration

[A-489-501]

Circular Welded Carbon Steel Standard Pipe and Tube Products From Turkey: Amended Final Results of Antidumping Duty Administrative Review; 2020-2021

AGENCY: Enforcement and Compliance, International Trade Administration, Department of Commerce.

SUMMARY: The U.S. Department of Commerce (Commerce) is amending its final results in the administrative review of the antidumping duty order on circular welded carbon steel standard pipe and tube products (pipe and tube products) from Turkey for the period May 1, 2020, through April 30, 2021, to correct a ministerial error.

DATES: Applicable January 17, 2023.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

On December 9, 2022, Commerce published the final results of the 2020-2021 administrative review of pipe and tube products from Turkey.¹ On December 7, 2022, Commerce granted interested parties in this administrative review the opportunity to provide comments on any ministerial errors found in the margin calculation for the final results, in accordance with 19 CFR 351.224(c)(2).² On December On December 12, 2022, Commerce received a timely filed allegation from Borusan Mannesmann Boru Sanayi ve Ticaret A.S. (Borusan Mannesmann) and Borusan Istikbal Ticaret T.A.S. (Istikbal) (collectively, Borusan), the respondent in this administrative review, alleging that Commerce made a ministerial error in the Final Results regarding its calculation of the final dumping margin.³ We received ministerial error rebuttal comments from Wheatland Tube (Wheatland), a petitioner in this administrative review.⁴ Based on our analysis of the allegation, we determine that we made a ministerial error and have made changes to the calculation of the weighted-average dumping margin for Borusan and for the non-individually examined respondents.⁵

¹ See Circular Welded Carbon Steel Standard Pipe and Tube Products from Turkey: Final Results of Antidumping Duty Administrative Review and Final Determination of No Shipments; 2020-2021, 87 FR 75596 (December 9, 2022) (Final Results), and accompanying Issues and Decision Memorandum.

² See Commerce's Letter, “2020-2021 Administrative Review of the Antidumping Duty Order on Welded Carbon Steel Standard Pipe and Tube Products from Turkey: Final Results Disclosure for Borusan,” dated December 12, 2022.

³ See Borusan's Letter, “Circular Welded Carbon Steel Pipes and Tubes from Turkey, Case No. A-489-501: BMB Ministerial Error Allegation,” dated December 12, 2022 (Ministerial Allegation).

⁴ See Wheatland's Letter, “Circular Welded Carbon Steel Standard Pipe and Tube Products from Turkey: Ministerial Error Rebuttal Comments,” dated December 19, 2022.

⁵ See Memorandum, “Amended Final Results of the 2020-2021 Antidumping Duty Administrative Review on Circular Welded Carbon Steel Standard Pipe and Tube Products from Turkey: Allegation of Ministerial Error,” dated concurrently with, and hereby adopted by, this notice (Ministerial Error Memorandum).

Scope of the Order

The products covered by this order are welded carbon steel standard pipe and tube products with an outside diameter of 0.375 inches or more but not over 16 inches of any wall thickness, and are currently classified under the following Harmonized Tariff Schedule of the United States (HTSUS) subheadings: 7306.30.10.00, 7306.30.50.25, 7306.30.50.32, 7306.30.50.40, 7306.30.50.55, 7306.30.50.85, and 7306.30.50.90. Although the HTSUS subheading is provided for convenience and customs purposes, the written description of the order is dispositive. These products, commonly referred to in the industry as standard pipe or tube, are produced to various ASTM specifications, most notably A-120, A-53, or A-135.

Ministerial Error

Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

Borusan argues that Commerce incorrectly set the beginning date for the margin and home market calculation programs to the months of the period of review (POR), thereby, omitting certain reported U.S. sales that Borusan sold prior to the POR but entered the United States during the POR.⁶ We agree with Borusan that Commerce made an unintentional error within the meaning of section 751(h) of the Act and 19 CFR 351.224(f) and, therefore, we have corrected the error by amending the Final Results pursuant to section 751(h) of the Act and 19 CFR 351.224(e).⁷ Specifically, we corrected the beginning date in the margin and home market calculation programs to capture U.S. sales that were entered during, but sold prior to, the POR.⁸

⁶ See Ministerial Allegation.

⁷ See Ministerial Error Memorandum.

⁸ Id.

For a complete discussion of the ministerial error allegation, as well as Commerce's analysis, see the accompanying Ministerial Error Memorandum.⁹ The Ministerial Error Memorandum is on file electronically via ACCESS. ACCESS is available to registered users at https://access.trade.gov. As a result, the weighted-average dumping margin for Borusan changes from 15.56 percent to 12.80 percent. Furthermore, the rate for the companies not selected for individual examination, which is based on the margin calculated for Borusan, also changes from 15.56 percent to 12.80 percent.¹⁰

⁹ Id.

¹⁰ The rate applied to the non-selected companies is based on Borusan's dumping margin for the period May 1, 2020, through April 30, 2021, as no other company was selected for review. See Final Results, 87 FR at 75597.

Amended Final Results of Review

Commerce determines that the following amended weighted-average dumping margins exist for the period May 1, 2020, through April 30, 2021:

Exporter/producer | Weighted- average dumping margin (percent)
Borusan Mannesmann Boru Sanayi ve Ticaret A.S./Borusan Istikbal Ticaret T.A.S | 12.80
Rate Applicable to the Following Non-Selected Companies:
Borusan Holding | 12.80
Borusan Mannesmann Yatirim Holding | 12.80
Kale Baglanti Teknolojileri San. ve Tic. A.S | 12.80
Kale Baglann Teknolojileri San. Ve Tic. A.S | 12.80
Noksel Celik Boru Sanayi A.S | 12.80

Disclosure

We will disclose the calculation memorandum used in our analysis to parties to this segment of the proceeding within five days of the date of the publication of these amended final results pursuant to 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), we calculated importer-specific assessment rates on the basis of the ratio of the total amount of dumping calculated for each importer's examined sales and the total entered value of those sales. Where an importer-specific antidumping duties assessment rate is zero or de minimis within the meaning of 19 CFR 351.106(c)(1), Commerce will instruct CBP to liquidate the appropriate entries without regard to antidumping duties. Commerce's “automatic assessment” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹¹

¹¹ See Antidumping and Countervailing Duty Proceedings: Assessment of Antidumping Duties, 68 FR 23954 (May 6, 2003).

For the companies which were not selected for individual examination, we will instruct CBP to assess antidumping duties at an ad valorem assessment rate equal to the weighted-average dumping margins determined in these amended final results.

The amended final results of this review shall be the basis for the assessment of antidumping duties on entries of merchandise covered by the amended final results of this review and for future deposits of estimated duties, where applicable.¹² Consistent with its recent notice,¹³ Commerce intends to issue appropriate assessment instructions directly to CBP no earlier than 35 days after the date of publication of the amended final results of this review in the Federal Register. If a timely summons is filed at the U.S. Court of International Trade, the assessment instructions will direct CBP not to liquidate relevant entries until the time for parties to file a request for a statutory injunction has expired (i.e., within 90 days of publication).

¹² See section 751(a)(2)(C) of the Act.

¹³ See Notice of Discontinuation of Policy to Issue Liquidation Instructions After 15 Days in Applicable Antidumping and Countervailing Duty Administrative Proceedings, 86 FR 3995 (January 15, 2021).

Cash Deposit Requirements

The following cash deposit requirements will be effective retroactively for all shipments of subject merchandise that entered, or were withdrawn from warehouse, for consumption on or after December 9, 2022, the date of publication of the Final Results of this administrative review, as provided by section 751(a)(2)(C) of the Act: (1) the cash deposit rate for respondents noted above will be equal to the weighted-average dumping margins established in the amended final results of this administrative review; (2) for merchandise exported by producers or exporters not covered in this administrative review but covered in a prior segment of the proceeding, the cash deposit rate will continue to be the company specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 14.74 percent, the all-others rate established in the less-than-fair-value investigation.¹⁴ These cash deposit requirements, when imposed, shall remain in effect until further notice.

¹⁴ See Large Power Transformers from the Republic of Korea: Antidumping Duty Order, 77 FR 53177 (August 31, 2012).

Notification to Importers

This notice also serves as a final reminder to importers of their responsibility under 19 CFR 351.402(f) to file a certificate regarding the reimbursement of antidumping and/or countervailing duties prior to liquidation of the relevant entries during the period of review. Failure to comply with this requirement could result in Commerce's presumption that reimbursement of antidumping and/or countervailing duties did occur and the subsequent assessment of doubled antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(h) and 777(i)(1) of the Act and 19 CFR 351.224(e).

Dated: January 10, 2023.
Lisa W. Wang,
Assistant Secretary for Enforcement and Compliance.

[FR Doc. 2023-00672 Filed 1-13-23; 8:45 am]

BILLING CODE 3510-DS-P